RAILROAD RETIREMENT BOARD

20 CFR Part 230

RIN 3220-AA61

Reduction and Nonpayment of Annuities by Reason of Work

AGENCY: Railroad Retirement Board.

ACTION: Proposed rule; withdrawal.

SUMMARY: The above mentioned regulation was previously published as a proposed rule on August 16, 1995 (60 FR 42482). The Railroad Retirement Board has determined not to go final with that proposed rule and hereby withdraws the proposed rule to amend 20 CFR Part 230.

ADDRESSES: 844 North Rush Street, Chicago, Illinois 60611-2092.

FOR FURTHER INFORMATION CONTACT: Marguerite P. Dadabo, Assistant General Counsel, Office of General Counsel, Railroad Retirement Board, (312) 751-4945, FAX (312) 751-7102, TDD (312) 751-4701.

Dated: February 21, 2007.
Beatrice Ezerski,
Secretary to the Board.

[FR Doc. 07-872 Filed 2-26-07; 8:45 am]

BILLING CODE 7905-01-M